DEPARTMENT OF ENERGY

Federal Energy Regulatory Commission

Notice of New System of Records

April 5, 2005.

SUMMARY: The Federal Energy Regulatory Commission (Commission or FERC), under the requirements of the Privacy Act of 1974, 5 U.S.C. 552a, is publishing a description of a new system of records.

DATES: Comments may be filed on or before 60 days after publication in the Federal Register.

ADDRESSES: Comments should be directed to the following address: Thomas R. Herlihy, Privacy Act Officer, Office of the Executive Director, Federal Energy Regulatory Commission, 888 First Street, NE., Room 11J-1, Washington, DC 20426.

FOR FURTHER INFORMATION CONTACT: Thomas R. Herlihy, Office of the Executive Director, Federal Regulatory Commission, 888 First Street, NE., Washington, DC 20426; 202-502-8300.

SUPPLEMENTARY INFORMATION: The Privacy Act of 1974, 5 U.S.C. 552a, requires that each agency publish a notice of the existence and character of each new or altered “system of records.” 5 U.S.C. 552a(a)(5). This Notice identifies and describes the Commission's new system of records. There are no altered systems to report. A copy of this report has been distributed to the Speaker of the House of Representatives and the President of the Senate, as the Act requires.

The new system of records does not duplicate any existing agency systems. In accordance with 5 U.S.C. 552a(e)(4), the Commission lists below the following information about this system: Name; location; categories of individuals on whom the records are maintained; categories of records in the system; authority for maintenance of the system; each routine use; the policies and practices governing storage, retrievability, access controls, retention, and disposal; the title and business address of the agency official responsible for the system of records; procedures for notification, access and contesting the records of each system; and the sources of the records in the system.

System Name:

National Finance Center Payroll Personnel System (NFC).

System Location:

Hard copies of personnel and timekeeping data, and payroll transactions and reports are located at the Federal Energy Regulatory Commission (FERC), Washington, DC 20426. Computerized data is located at the U.S. Department of Agriculture, National Finance Center, New Orleans, LA 70129.

Categories of Individuals Covered by the System:

All employees (Senior Executive Service and non-Senior Executive Service, bargaining unit and non-bargaining unit) employed by the Federal Energy Regulatory Commission.

Categories of Records in the System:

All official personnel action and/or payroll transaction information on Commission employees.

Authority for Maintenance of the System:

5 U.S.C. 301, 2302(b)(20)(B), 2302(b)(10), 7311, 7313; Executive Order 10450; 5 CFR 731.103.

Routine Uses of Records Maintained in the System Including Categories of Users and the Purpose of Such Uses:

To the Merit Systems Protection Board, the Office of Special Counsel, the Equal Employment Opportunity Commission, or the Federal Labor Relations Authority, in connection with functions vested in those agencies.

To a Congressional office in response to an inquiry made at the request of that individual.

To the Office of Management and Budget in connection with private relief legislation.

In litigation before a court or in an administrative proceeding being conducted by a Federal agency.

To the National Archives and Records Administration for records management inspections.

To Federal agencies as a data source for management information through the production of summary descriptive statistics and analytical studies in support of the functions for which the records are maintained for related studies.

Policies and Practices for Storing, Retrieving, Accessing, Retaining and Disposing of Records in the System:

Storage:

On paper in Official Folders located at FERC. Computerized on an IBM z900 mainframe with IBM Shark RAID DASD system for direct access storage, and STK 9840 tape silos for long term data storage which resides at the NFC.

Retrievability:

Data can be retrieved by employee's social security number.

Safeguards:

The National Finance Center is located in a secured Federal complex. Within this secured building, the Computer Operations Center is located in a controlled access room. Specific employees have been identified as system and database administrators having specific responsibilities allowing access to FERC personnel and payroll data. Security is embedded within the software in both the operating system and at the application level. Individuals not granted access rights cannot view or change data. The database is monitored by software applications that provide audits of log-ins, both successful and failed.

Output documents from the system are maintained as hard copy documents by FERC's Human Resources Services Division and is safeguarded in secured cabinets located within a secured room.

System Manager and Address:

The Federal Energy Regulatory Commission and the USDA National Finance Center share responsibility for system management. The first point of contact is the Director, Resource Integration Division, Federal Energy Regulatory Commission, 888 First Street, NE., Washington, DC 20426.

Notification Procedures:

Contact the Director, Resource Integration Division, Federal Energy Regulatory Commission.

Records Access Procedures:

Same as notification procedures.

Contesting Record Procedures:

Same as notification procedures. Involvement by the Office of Personnel Management may be necessary, as provided in the Federal Personnel Manual, Chapter 731.

Record Source Categories:

USDA National Finance Center Payroll/Personnel System; the employee's supervisors; and the employee.

Magalie R. Salas,
Secretary.

[FR Doc. E5-1716 Filed 4-12-05; 8:45 am]

BILLING CODE 6717-01-P